POSTAL SERVICE BOARD OF GOVERNORS

Sunshine Act Meeting

Times and Dates: 12:30 p.m., Monday, December 9, 2002; 8:30 a.m., Tuesday, December 10, 2002.

Place: Washington, DC, at U.S. Postal Service Headquarters, 475 L'Enfant Plaza, SW., in the Benjamin Franklin Room.

Status: December 9-12:30 p.m. (Closed); December 10-8:30 a.m. (Open)

Matters to be Considered:

Monday, December 9-12:30 p.m. (Closed)

1. Audit and Finance Committee Report and Review of Year-End Financial Statements.

2. Financial Performance.

3. Proposed Filing with Postal Rate Commission for Parcel Return Service.

4. Capital Investment for Ventilation and Filtration System for Mail Processing Equipment.

5. Strategic Planning.

6. Personnel Matters and Compensation Issues.

Tuesday, December 10-8:30 a.m. (Open)

1. Minutes of the Previous Meeting, November 4-5, 2002.

2. Remarks of the Postmaster General and CEO.

3. Fiscal Year 2002 Audited Financial Statements.

4. Postal Service Fiscal Year 2002 Annual Report.

5. Final Fiscal Year 2004 Appropriation Request.

6. Capital Investments.

a. Flats Recognition Improvement Program.

b. Flats Feeder Enhancement Program.

c. Rockefeller Center Station, New York, Lease Renewal.

7. Click-N-Ship.

8. Tentative Agenda for the January 6-7, 2003, meeting in Washington, DC.

FOR FURTHER INFORMATION CONTACT: William T. Johnstone, Secretary of the Board, U.S. Postal Service, 475 L'Enfant Plaza, SW., Washington, DC 20260-1000. Telephone (202) 268-4800.

William T. Johnstone,
Secretary.

[FR Doc. 02-30168 Filed 11-22-02; 3:43 pm]

BILLING CODE 2210-12-M